OFFICE OF MANAGEMENT AND BUDGET

Guidelines for Ensuring and Maximizing the Quality, Objectivity, Utility, and Integrity of Information Disseminated by the Office of Management and Budget

AGENCY: Office of Management and Budget.

ACTION: Notice of guidelines and request for comments.

SUMMARY: The Office of Management and Budget (OMB) is seeking comments on its draft Information Quality Guidelines. These Information Quality Guidelines describe OMB's pre-dissemination information quality control and an administrative mechanism for requests for correction of information publicly disseminated by OMB. The draft Information Quality Guidelines are posted on OMB's Web site http://www.whitehouse.gov/omb/inforeg/index.html.

DATES: Written comments regarding OMB's draft Information Quality Guidelines are due by June 14, 2002.

ADDRESSES: Please submit comments to Jefferson B. Hill of the Office of Information and Regulatory Affairs, Office of Management and Budget, Washington, DC 20503. Comments can also be e-mailed to informationquality@omb.eop.gov.

FOR FURTHER INFORMATION CONTACT: Jefferson B. Hill, Office of Information and Regulatory Affairs, Office of Management and Budget, Washington, DC 20503. Telephone: (202) 395-3176.

Dated: April 29, 2002.
John D. Graham,
Administrator, Office of Information and Regulatory Affairs.

[FR Doc. 02-10962 Filed 4-30-02; 8:45 am]

BILLING CODE 3110-01-M